DEPARTMENT OF LABOR

Employment and Training Administration

[TA-W-53,106]

Tree Source Industries, Inc., Portland, Oregon; Dismissal of Application for Reconsideration

Pursuant to 29 CFR 90.18(C) an application for administrative reconsideration was filed with the Director of the Division of Trade Adjustment Assistance for workers at Tree Source Industries, Inc., Portland, Oregon. The application contained no new substantial information which would bear importantly on the Department's determination. Therefore, dismissal of the application was issued.

TA-W-53,106; Tree Source Industries, Inc. Portland, Oregon (February 2, 2003)

Signed at Washington, DC, this 5th day of February 2004.
Timothy Sullivan,
Director, Division of Trade Adjustment Assistance.

[FR Doc. 04-3012 Filed 2-10-04; 8:45 am]

BILLING CODE 4510-30-P